FEDERAL MEDIATION AND CONCILIATION SERVICE

Arbitrator's Personal Data Questionnaire

AGENCY: Federal Mediation and Conciliation Service (FMCS).

ACTION: 60-Day notice and request for comments.

SUMMARY: The Federal Mediation and Conciliation Service (FMCS), invites the public and other Federal Agencies to take this opportunity to comment on the following information collection request, Arbitrator's Personal Data Questionnaire, FMCS Form R-22. This information collection request will be submitted for approval to the Office of Management Budget (OMB) in compliance with the Paperwork Reduction Act (PRA). The Arbitrator's Personal Data Questionnaire, FMCS Form R-22, allows FMCS to comply with its statutory obligation to make governmental facilities available for voluntary arbitration. To carry out this policy, FMCS have issued regulations which provide for the operation and maintenance of a roster of professional arbitrators. The arbitrators are private citizens, not employees of FMCS, and are paid by the parties for hearing and deciding the issues submitted under a collective bargaining agreement and in other circumstances. Applicants for listing on the roster submit an Arbitrator's Personal Data Questionnaire, FMCS Form R-22, which is used by FMCS to evaluate their qualifications. This allows FMCS to be able to restrict its roster to qualified individuals only.

DATES: Comments must be submitted on or before May 6, 2025.

ADDRESSES: You may submit comments, identified by Arbitrator's Personal Data Questionnaire (FMCS Form R-22), through one of the following methods:

• Email: register@fmcs.gov;

• Mail: Office of General Counsel, One Independence Square, 250 E St. SW, Washington, DC 20427.

FOR FURTHER INFORMATION CONTACT: Karen Pierce, 202-606-3672, kpierce@fmcs.gov.

SUPPLEMENTARY INFORMATION: Copies of the agency form are available here.

I. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

II. Information Collection Request

Agency: Federal Mediation and Conciliation Service.

Title: Arbitrator's Personal Data Questionnaire (FMCS Form R-22).

OMB Number: 3076-0001.

Type of Request: Extension without change of a currently approved collection.

Affected Public: Private Sector to include businesses or other for-profits.

Frequency: Once a year.

Burden: The total annual burden estimate is that FMCS will receive approximately 50 responses per year, one response per year and updates as necessary. This form takes about 2 hours to complete.

Information Collection Requirement:

Purpose and Description of Data Collection: Title II of the Labor Management Relations Act of 1947, 29 U.S.C. 171(b), provides that “the settlement of issues between employers and employees through collective bargaining may advance by making available full and adequate governmental facilities for conciliation, mediation, and voluntary arbitration . . .” Pursuant to the statute and 29 CFR part 1404, FMCS has long maintained a roster of qualified, private sector labor arbitrators to hear disputes arising under collective bargaining agreements and provide fact finding and interest arbitration. The existing regulation establishes the policy and administrative responsibility for the FMCS roster, criteria, procedures for listing and removing arbitrators, and procedures for using arbitration services.

Use of Results: The FMCS uses the information received from arbitrator applicants to evaluate the credentials of the applicants and determine an arbitrator's suitability for inclusion on FMCS' roster of arbitrators.

III. The Official Record

The official records are electronic records.

Dated: March 4, 2025.
Alisa Zimmerman,
Deputy General Counsel.

[FR Doc. 2025-03699 Filed 3-6-25; 8:45 am]

BILLING CODE 6732-01-P